DEPARTMENT OF THE INTERIOR

Bureau of Land Management

[OR-130-1020-AL; GP9-0123]

Notice of Public Meeting, Eastern Washington Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM) Eastern Washington Resource Advisory Council will meet as indicated below.

DATES: Thursday, April 16, 2009, at the BLM Spokane District Office, 1103 N. Fancher Rd., Spokane Valley, WA 99212.

SUPPLEMENTARY INFORMATION: The meeting will start at 9 a.m. and end at 3:30 p.m. The meeting will be open to the public and there will be an opportunity for public comments at 2:30 p.m. Discussion will focus on the status of projects of interest and identification of topics for future meetings.

FOR FURTHER INFORMATION CONTACT: BLM Spokane District, 1103 N. Fancher Rd., Spokane Valley, WA 99212, or call (509) 536-1200.

Dated: March 17, 2009.
Robert B. Towne,
District Manager.

[FR Doc. E9-6753 Filed 3-25-09; 8:45 am]

BILLING CODE 4310-33-P